DEPARTMENT OF COMMERCE

National Oceanic and Atmospheric Administration

[I.D. 021306A]

Vessel Monitoring Systems; Approval of Mobile Transceiver Unit Reseller

AGENCY: National Marine Fisheries Service (NMFS), National Oceanic and Atmospheric Administration (NOAA), Commerce.

ACTION: Notice; addition of an authorized reseller.

SUMMARY: This document provides notice of the addition of an authorized reseller for the previously type approved ST2500G-NMFS Mobile Transceiver Unit (MTU).

ADDRESSES: To obtain copies of the list of NOAA-approved Vessel Monitoring Systems (VMS) MTU and VMS MCSPs, or to obtain information regarding the status of VMS systems being evaluated by NOAA, write to NOAA Fisheries, Office for Law Enforcement (OLE), 8484 Georgia Avenue, Suite 415, Silver Spring, MD 20910.

FOR FURTHER INFORMATION CONTACT: For current listing information contact Mark Oswell, Outreach Specialist, or for questions regarding VMS installation and status of evaluations contact Jonathan Pinkerton, National VMS Program Manager by phone: 301-427-2300 or by fax: 301-427-2055.

SUPPLEMENTARY INFORMATION: The reseller listed below is authorized to sell the Stellar ST2500G-NMFS MTU for use on vessels operating in fisheries that require the use of a VMS and listed within the approved sales area of this notice.

A. Additional Approved Reseller

METOCEAN Data Systems; 21 Thornhill Drive; Dartmouth, Nova Scotia Canada B3B 1R9. telephone (902) 468-2505, fax (902) 468-4442. For additional information METOCEAN Data Systems can be found on the Internet at www.metocean.com.

B. Approved Sales Areas

METOCEAN Data Systems is approved to resell the Stellar ST2500G-NMFS MTU to fishers operating in the Alaska Fisheries Requiring VMS, Pacific Coast Groundfish Fishery, South Atlantic Rock Shrimp Fishery, and the Atlantic Highly Migratory Species (HMS) Fishery.

Dated: March 8, 2006.
William T. Hogarth,
Assistant Administrator for Fisheries, National Marine Fisheries Service.

[FR Doc. E6-3631 Filed 3-13-06; 8:45 am]

BILLING CODE 3510-22-S